DEPARTMENT OF THE INTERIOR

Minerals Management Service

Agency Information Collection Activities: Submitted for Office of Management and Budget (OMB) Review; Comment Request

AGENCY: Minerals Management Service (MMS), Interior.

ACTION: Notice of extension of an information collection (1010-0141).

SUMMARY: To comply with the Paperwork Reduction Act of 1995 (PRA), we are notifying the public that we have submitted to OMB an information collection request (ICR) to renew approval of the paperwork requirements in the regulations under 30 CFR part 250, Subpart D, “Oil and Gas Drilling Operations,” and related documents. This notice also provides the public a second opportunity to comment on the paperwork burden of these regulatory requirements.

DATES: Submit written comments by August 24, 2005.

ADDRESSES: You may submit comments on this ICR directly to the Office of Management and Budget (OMB) either by e-mail (OIRA_DOCKET@omb.eop.gov) or by fax (202) 395-6566, directly to the Office of Information and Regulatory Affairs, OMB, Attention: Desk Officer for the Department of the Interior (1010-0141).

Submit a copy of your comments to the Department of the Interior, MMS, via:

• MMS's Public Connect on-line commenting system, https://ocsconnect.mms.gov. Follow the instructions on the Web site for submitting comments.

• E-mail MMS at rules.comments@mms.gov. Use Information Collection Number 1010-0141 in the subject line.

• Fax: 703-787-1546. Identify with Information Collection Number 1010-0141.

• Mail or hand-carry comments to the Department of the Interior; Minerals Management Service; Attention: Rules Processing Team (RPT); 381 Elden Street, MS-4024; Herndon, Virginia 20170-4817. Please reference “Information Collection 1010-0141” in your comments.

FOR FURTHER INFORMATION CONTACT: Cheryl Blundon, Rules Processing Team, (703) 787-1600. You may also contact Cheryl Blundon to obtain a copy, at no cost, of the regulations and the associated forms that require the subject collection of information.

SUPPLEMENTARY INFORMATION: Title: 30 CFR part 250, Subpart D, Oil and Gas Drilling Operations.

OMB Control Number: 1010-0141.

Abstract: The Outer Continental Shelf (OCS) Lands Act, as amended (43 U.S.C. 1331 et seq. and 43 U.S.C. 1801 et seq.), authorizes the Secretary of the Interior to prescribe rules and regulations to administer leasing of the OCS. Such rules and regulations will apply to all operations conducted under a lease. Operations on the OCS must preserve, protect, and develop oil and natural gas resources in a manner which is consistent with the need to make such resources available to meet the Nation's energy needs as rapidly as possible; to balance orderly energy resource development with protection of human, marine, and coastal environments; to ensure the public a fair and equitable return on the resources of the OCS; and to preserve and maintain free enterprise competition. Section 1332(6) states that “operations in the Outer Continental Shelf should be conducted in a safe manner by well trained personnel using technology, precautions, and other techniques sufficient to prevent or minimize the likelihood of blowouts, loss of well control, fires, spillages, physical obstructions to other users of the waters or subsoil and seabed, or other occurrences which may cause damage to the environment or to property or endanger life or health.”

This information collection (IC) request concerns the regulations at 30 CFR 250, subpart D, Oil and Gas Drilling Operations. It also covers the related Notices to Lessees and Operators (NTLs) that the Minerals Management Service (MMS) issues to clarify and provide additional guidance on some aspects of the regulations.

We will protect information from respondents considered proprietary under the Freedom of Information Act (5 U.S.C. 552) and its implementing regulations (43 CFR part 2) and under regulations at 30 CFR 250.196, “Data and information to be made available to the public,” and 30 CFR part 252, “OCS Oil and Gas Information Program.” No items of a sensitive nature are collected. Responses are mandatory.

Frequency: On occasion, weekly, monthly, semi-annually, annually, and varies by section.

Estimated Number and Description of Respondents: Approximately 117 Federal OCS oil and gas lessees.

Estimated Reporting and Recordkeeping “Hour” Burden: The estimated annual “hour” burden for this information collection is a total of 163,714 hours. The following chart details the individual components and estimated hour burdens. In calculating the burdens, we assumed that respondents perform certain requirements in the normal course of their activities. We consider these to be usual and customary and took that into account in estimating the burden.

Citation 30 CFR 250 subpart D and NTL(s) | Reporting and recordkeeping requirement | Hour burden | Average number annual responses | Annual burden hours
402(b) | Request approval to use blind or blind-shear ram or pipe rams and inside BOP | 0.25 | 6 requests | 2 (rounded)
403 | Notify MMS of drilling rig movement on or off drilling location | 0.1 | 20 notices | 2
| In Gulf of Mexico OCS Region, rig movements reported on form MMS-144—burden covered under 1010-0150. |  |  | 0
408, 409 | Apply for use of alternative procedures and/or departures not requested in MMS forms (including discussions with MMS or oral approvals) | 5 | 20% of 1,200 drilling ops. = 240 | 1,200
408, 409, 410-418, plus various other references in subpart D | Apply for permit to drill and requests for various approvals required in subpart D (including §§ 250.423, 424, 427, 432, 442(c), 447, 448(c), 451(g), 456(a)(3), (f), 460, 490(c)(1), (2)) and obtained via forms MMS-123 (Application for Permit to Drill) and MMS-123S (Supplemental APD Information Sheet), and supporting information and notices to MMS | MMS-123 2.5+* MMS-123S 1.5+* | 1,245 MMS-123S 1,230 | MMS-123 3,135* MMS-123S 1,890*
410(b), 417(b) | Reference to Exploration Plan, Development and Production Plan, Development Operations Coordination Document (30 CFR 250, subpart B)—burden covered under 1010-0049. |  |  | 0
417(a), (b) | Collect and report additional information on case-by-case basis if sufficient information is not available | 4 | 1 report | 4
417(c) | Submit 3rd party review of drilling unit according to 30 CFR 250, subpart I—burden covered under 1010-0058. |  |  | 0
418(e) | Submit welding and burning plan according to 30 CFR 250, subpart A—burden covered under 1010-0114. |  |  | 0
421, 423, 428 | Submit casing and cementing program and revisions or changes | 2 | 20% of 1,000 drilling ops. = 200 | 400
424 | Caliper, pressure test, or evaluate casing; submit evaluation results; request approval before resuming operations or beginning repairs (every 30 days during prolonged drilling) | 4 | 20% of 1,000 wells = 200 | 800
456(c), (f) | Perform various calculations; post information (on occasion, daily, weekly) | 0.5 | 135 drilling rigs × 52 weeks = 7,020 | 3,510
459(a)(3) | Request exception to procedure for protecting negative pressure area | 2 | 5 requests | 10
460, 465 | Submit revised plans, changes, well/drilling records, etc., on forms MMS-124 (Application for Permit to Modify) or MMS-125 (End of Operations Report) and supporting information | MMS-124 1.5+* MMS-125 1.6+* | MMS-124 6,300 MMS-125 3,290 | MMS-124 9,900* MMS-125 5,348*
460 | Submit plans for well testing and notify MMS before test | 2 | 15 plans | 30
461(e) | Provide copy of well directional survey to affected leaseholder | 1 | 10 occasions | 10
462(a) | Prepare and post well control drill plan for crew members | 3 | 26 plans | 78
463(b) | Request field drilling rules be established, amended, or canceled | 2.5 | 6 requests | 15
468(a) | Record and submit well logs, survey results, etc. | 1.5 | 1,000 logs/surveys | 1,500
| Record and submit directional and vertical-well surveys | 1 | 1,000 reports | 1,000
| Record and submit velocity profiles and surveys | 1 | 55 reports | 55
| Record and submit core analyses | 1 | 150 analyses | 150
468(b), 465(b)(3) | In the GOM OCS Region, submit drilling activity reports weekly on forms MMS-133 (Well Activity Report) and MMS-133S (Bore Hole Data) and supporting information | 0.8+* | 15,500 | 12,840*
468(c) | In the Pacific and Alaska OCS Regions during drilling operations, submit daily drilling reports.N/A in GOM | 1 | 14 wells × 365 days × 20% = 1,022 | 1,022
469 | As specified by region, submit well records, paleontological interpretations or reports, service company reports, and other reports or records of operations | 1.5 | 300 submissions | 450
490(c)(4), (d) | Submit request for reclassification of H2S zone; notify MMS if conditions change | 2 | 27 responses | 54
490(f), also referred to in 418(d) | Submit contingency plans for operations in H2S areas (16 drilling, 5 work-over, 6 production) | 25 | 27 plans | 675
490(i) | Display warning signs—no burden as facilities would display warning signs and use other visual and audible systems. |  |  | 0
490(j)(12) | Propose alternatives to minimize or eliminate SO2 hazards—submitted with contingency plans—burden covered under 250.490(f). |  |  | 0
490(j)(13)(vi) | Label breathing air bottles—no burden as supplier normally labels bottles; facilities would routinely label if not. |  |  | 0
490(l) | Notify (phone) MMS of unplanned H2S releases (approx. 2/year) | 0.2 | 30 facilities × 2 = 60 | 12
490(o)(5) | Request approval to use drill pipe for well testing | 2 | 3 requests | 6
490(q)(1) | Seal and mark for the presence of H2S cores to be transported—no burden as facilities would routinely mark transported cores. |  |  | 0
490(q)(9) | Request approval to use gas containing H2S for instrument gas | 2 | 3 requests | 6
490(q)(12) | Analyze produced water disposed of for H2S content and submit results to MMS on occasion (approx. weekly) | 2.8 | 4 production platforms × 52 weeks = 208 | 583 (rounded)
400-490 | General departure or alternative compliance requests not specifically covered elsewhere in subpart D | 2 | 22 | 44
Reporting Subtotal |  |  | 39,191 Responses | 44,731
404 | Perform operational check of crown block safety device; record results (weekly) | 0.25 | 135 drilling rigs × 52 weeks = 7,020 | 1,755
426 | Perform pressure test on all casing strings and drilling liner lap; record results | 2 | 135 drilling rigs × approx. 50 per rig = 6,750 | 13,500
427(a) | Perform pressure-integrity tests and related hole-behavior observations; record results | 4 | 425 tests | 1,700
434, 467 | Perform diverter tests when installed and once every 7 days; actuate system at least once every 24-hour period; record results (average 2 per drilling operation) | 2 | 1,000 drilling ops. × 2 tests = 2,000 | 4,000
450, 467 | Perform BOP pressure tests, actuations and inspections when installed; at a minimum every 14 days; as stated for components; record results | 10 | 135 drilling rigs × approx. 35 tests per rig = 4,725 | 47,250
450, 467 | Function test annulars and rams; document results every 7 days between BOP tests (biweekly). Note: this test is part of BOP test when BOP test is conducted | 0.5 | 135 drilling rigs × approx. 20 tests per rig = 2,700 | 1,350
451(c) | Record reason for postponing BOP test (on occasion—approx. 2/year) | 0.25 | 135 drilling rigs × 2 tests = 270 | 68 (rounded)
456(b), (i), 458(b) | Record each drilling fluid circulation; test drilling fluid, record results; record daily inventory of drilling fluid/materials; test and recalibrate gas detectors; record results (on occasion, daily, weekly, quarterly) | 2 | 135 drilling rigs × 52 weeks = 7,020 | 14,040
462(c) | Perform well-control drills; record results (2 crews weekly) | 1 | 135 drilling rigs × 2 crews × 52 weeks = 14,040 | 14,040
466, 467 | Retain drilling records for 90 days after drilling is complete; retain casing/liner pressure, diverter, and BOP records for 2 years; retain well completion/well workover until well is permanently plugged/abandoned or lease is assigned | 1.5 | Annual records maintenance for 1,000 wells | 1,500
490(g)(2), (g)(5) | Conduct H2S training; post safety instructions; document training on occasion and annual refresher(approx. 2/year) | 4 | 30 facilities × 2 trainings = 60 | 240
490(h)(2) | Conduct weekly drills and safety meetings; document attendance | 2 | 30 facilities × 52 weeks = 1,560 | 3,120
490(j)(8) | Test H2S detection and monitoring sensors during drilling; record testing and calibrations on occasion, daily during drilling (approx. 12 sensors per rig) | 4 | 10 drilling rigs × 365 days = 3,650 | 14,600
490(j)(8) | Test H2S detection and monitoring sensors every 14 days during production; record testing and calibrations (approx. 30 sensors/5 platforms + approx. 42 sensors/23 platforms) | 3.5 | 20 production platforms × 26 tests = 520 | 1,820
Recordkeeping Subtotal |  |  | 51,740 Recordkeepers | 118,983
Total Hour Burden |  |  | 90,931 | 163,714

Estimated Reporting and Recordkeeping “Non-Hour Cost” Burden: We have identified no paperwork “non-hour cost” burdens associated with the collection of information.

Public Disclosure Statement: The PRA (44 U.S.C. 3501, et seq.) provides that an agency may not conduct or sponsor a collection of information unless it displays a currently valid OMB control number. Until OMB approves a collection of information, you are not obligated to respond.

Comments: Section 3506(c)(2)(A) of the PRA (44 U.S.C. 3501, et seq.) requires each agency “* * * to provide notice * * * and otherwise consult with members of the public and affected agencies concerning each proposed collection of information * * *” Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

To comply with the public consultation process, on February 22, 2005, we published a Federal Register notice (70 FR 8621) announcing that we would submit this ICR to OMB for approval. The notice provided the required 60-day comment period. In addition, § 250.199 provides the OMB control number for the information collection requirements imposed by the 30 CFR part 250 regulations and forms. The regulation also informs the public that they may comment at any time on the collections of information and provides the address to which they should send comments. We have received no comments in response to these efforts.

If you wish to comment in response to this notice, you may send your comments to the offices listed under the ADDRESSES section of this notice. OMB has up to 60 days to approve or disapprove the information collection but may respond after 30 days. Therefore, to ensure maximum consideration, OMB should receive public comments by August 25, 2005.

Public Comment Procedures: MMS's practice is to make comments, including names and addresses of respondents, available for public review. If you wish your name and/or address to be withheld, you must state this prominently at the beginning of your comment. MMS will honor the request to the extent allowable by the law; however, anonymous comments will not be considered. All submissions from organizations or businesses, and from individuals identifying themselves as representatives or officials of organizations or businesses, will be made available for public inspection in their entirety.

MMS Information Collection Clearance Officer: Arlene Bajusz (202) 208-7744.

Dated: May 25, 2005.
E.P. Danenberger,
Chief, Office of Offshore Regulatory Programs.

[FR Doc. 05-14715 Filed 7-25-05; 8:45 am]

BILLING CODE 4310-MR-P